DEPARTMENT OF THE TREASURY

Agency Information Collection Activities; Submission for OMB Review; Comment Request; Labeling and Advertising Requirements Under the Federal Alcohol Administration Act

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 25, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Tax and Trade Bureau (TTB)

Title: Labeling and Advertising Requirements under the Federal Alcohol Administration Act.

OMB Control Number: 1513-0087.

Type of Review: Extension without change of a currently approved collection.

Description: The FAA Act, at 27 U.S.C. 205(e) and (f), specifically requires the Secretary to issue regulations regarding the labeling and advertising of wines, distilled spirits, and malt beverages to prohibit consumer deception and the use of misleading statements on labels and in advertising of alcohol beverages and to ensure that such labels and advertisements provide consumers with adequate information as to the identity and quality of such products. Under this authority, TTB has issued regulations in 27 CFR parts 4, 5, and 7 that require bottlers and importers to provide certain mandatory information on labels and in advertisements of alcohol beverages and to adhere to certain performance standards for statements made on labels and in advertisements of such products to ensure that consumers are not deceived or mislead about a product's identity and quality.

Form: None.

Affected Public: Businesses or other for-profits.

Estimated Number of Respondents: 11,300.

Frequency of Response: Annually.

Estimated Total Number of Annual Responses: 11,300.

Estimated Time per Response: 1 hour.

Estimated Total Annual Burden Hours: 11,300.

Authority: Authority: 44 U.S.C. 3501 et seq.

Dated: December 18, 2018.
Spencer W. Clark,
Treasury PRA Clearance Officer.

[FR Doc. 2018-27766 Filed 12-21-18; 8:45 am]

BILLING CODE 4810-31-P